DEPARTMENT OF HEALTH AND HUMAN SERVICES

National Institutes of Health

National Institute of Diabetes and Digestive and Kidney Diseases Diabetes Mellitus Interagency Coordinating Committee; Notice of Workshop

The Diabetes Mellitus Interagency Coordinating Committee (DMICC) will hold a 2-day workshop on May 5, from 8 a.m. to 6 p.m., and May 6, from 7:30 a.m. to 4 p.m., at the Hilton Washington DC/Rockville Hotel & Executive Meeting Center, 1750 Rockville Pike, Rockville, MD 20852. The workshop will be open to the public, with attendance limited to space available. Non-Federal individuals planning to attend the workshop should register on the workshop Web site (http://conferences.thehillgroup.com/NIDDK/DMICCworkshop/index.html) at least 7 days prior to the workshop. Individuals who plan to attend and need special assistance, such as sign language interpretation or other reasonable accommodations, should inform the Contact Person listed below at least 10 days in advance of the workshop.

The DMICC facilitates cooperation, communication, and collaboration on diabetes among government entities. The May 5-6, 2011, DMICC workshop will discuss new and emerging opportunities for type 1 diabetes research supported by the Special Statutory Funding Program for Type 1 Diabetes Research.

Any interested person may file written comments with the Committee by forwarding their statement to the Contact Person listed on this notice. The statement should include the name, address, telephone number and when applicable, the business or professional affiliation of the interested person. Because of time constraints for the workshop, there will not be time on the agenda for oral comments from members of the public.

An agenda for the DMICC workshop will be available on the following Web site: http://conferences.thehillgroup.com/NIDDK/DMICCworkshop/index.html. Members of the public who would like to receive e-mail notification about future DMICC meetings could register on a listserv available on the DMICC Web site: http://www.diabetescommittee.gov.

For further information concerning this workshop, contact Dr. Sanford Garfield, Executive Secretary of the Diabetes Mellitus Interagency Coordinating Committee, National Institute of Diabetes and Digestive and Kidney Diseases, 6707 Democracy Boulevard, Room 654, MSC 5460, Bethesda, MD 20892-5460, Telephone: 301- 594-8803 Fax: 301-402-6271, E-mail: dmicc@mail.nih.gov.

Dated: April 4, 2011.
Sanford Garfield,
Executive Secretary, DMICC, Division of Diabetes, Endocrinology and Metabolic Diseases, NIDDK, National Institutes of Health.

[FR Doc. 2011-8612 Filed 4-11-11; 8:45 am]

BILLING CODE 4140-01-P